DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Action(s)

On June 11, 2019, OFAC determined that the property and interests in property subject to U.S. jurisdiction of the following persons are blocked under the relevant sanctions authorities listed below.

Individuals

1. FOZ, Samer (a.k.a. AL-FOUZ, Samer; a.k.a. FAWAZ, Samer; a.k.a. FAWZ, Samir; a.k.a. FOUZ, Samer; a.k.a. FOZ, Samer Zuhair; a.k.a. FOZ, Samir), Meadows 2, Street 3, Villa 5, Dubai, United Arab Emirates; DOB 20 May 1973; POB Latakia, Syria; nationality Syria; alt. nationality Turkey; alt. nationality Saint Kitts and Nevis; citizen Saint Kitts and Nevis; Gender Male; National ID No. 784197341865828 (Syria) (individual) [SYRIA].

Designated pursuant to section 1(b)(iii) of Executive Order 13573 of May 18, 2011, “Blocking Property of Senior Officials of the Government of Syria” (E.O. 13573) for having materially assisted, sponsored, or provided financial, material, or technological support for, or goods or services in support of, Bashar AL-ASSAD, a person whose property and interests in property are blocked pursuant to E.O. 13573.

Also designated pursuant to section 1(b)(i) of Executive Order 13582 of August 17, 2011, “Blocking Property of the Government of Syria and Prohibiting Certain Transactions With Respect to Syria” (E.O. 13582) for having materially assisted, sponsored, or provided financial, material, or technological support for, or goods or services in support of, the GOVERNMENT OF SYRIA, a person whose property and interests in property are blocked pursuant to E.O. 13582.

2. FOZ, Amer (a.k.a. FOZ, Amer Zuhair); DOB 11 Mar 1976; POB Homs, Syria; Gender Male; Passport O6O1O274747 (Syria) (individual) [SYRIA] (Linked To: ASM INTERNATIONAL TRADING LLC).

Designated pursuant to section 1(b)(iv) of E.O. 13573 for having acted or purported to act for or on behalf of, directly or indirectly, ASM INTERNATIONAL TRADING, LLC, an entity whose property and interests in property are blocked pursuant to E.O. 13573.

Also designated pursuant to section 1(b)(ii) of E.O. 13582 for having acted or purported to act for or on behalf of, directly or indirectly, ASM INTERNATIONAL TRADING, LLC, an entity whose property and interests in property are blocked pursuant to E.O. 13582.

3. FOZ, Husen (a.k.a. FOZ, Hasan; a.k.a. FOZ, Hosn Zuhair; a.k.a. FOZ, Hoson; a.k.a. FOZ, Housen; a.k.a. FOZ, Hussen), Meadows 1, Street 13, Villa 38, Dubai, United Arab Emirates; Adawai Area Rawdet Aleman Bld, 1st Floor, Damascus City, Syria; DOB 25 May 1981; POB Lattakia, Syria; nationality Syria; alt. nationality Saint Kitts and Nevis; citizen Turkey; alt. citizen Syria; Gender Female; Passport U08527769 (Turkey); alt. Passport RE0027450 (Syria); National ID No. 06010274768 (Syria) (individual) [SYRIA] (Linked To: ASM INTERNATIONAL TRADING LLC).

Designated pursuant to section 1(b)(iv) of E.O. 13573 for having acted or purported to act for or on behalf of, directly or indirectly, ASM INTERNATIONAL TRADING, LLC, an entity whose property and interests in property are blocked pursuant to E.O. 13573.

Also designated pursuant to section 1(b)(ii) of E.O. 13582 for having acted or purported to act for or on behalf of, directly or indirectly, ASM INTERNATIONAL TRADING, LLC, an entity whose property and interests in property are blocked pursuant to E.O. 13582.

Entities

1. AL-MOHAIMEN FOR TRANSPORTING & CONTRACTING (a.k.a. AL MOHAIMEN FOR TRANSPORTATION AND CONTRACTING; a.k.a. AL-MOHAIMEN FOR TRANSPORTING AND CONTRACTING), Lattakia, Syria [SYRIA] (Linked To: AMAN HOLDING COMPANY).

Designated pursuant to section 1(b)(iv) of E.O. 13573 for being owned or controlled by, directly or indirectly, AMAN HOLDING COMPANY, an entity whose property and interests in property are blocked pursuant to E.O. 13573.

Also designated pursuant to section 1(b)(ii) of E.O. 13582 for being owned or controlled by, directly or indirectly, AMAN HOLDING COMPANY, an entity whose property and interests in property are blocked pursuant to E.O. 13582.

2. AMAN DAMASCUS JOINT STOCK COMPANY (a.k.a. AMAN DAMASCUS JSC), Damascus, Syria [SYRIA] (Linked To: AMAN HOLDING COMPANY).

Designated pursuant to section 1(b)(iv) of E.O. 13573 for being owned or controlled by, directly or indirectly, AMAN HOLDING COMPANY, an entity whose property and interests in property are blocked pursuant to E.O. 13573.

Also designated pursuant to section 1(b)(ii) of E.O. 13582 for being owned or controlled by, directly or indirectly, AMAN HOLDING COMPANY, an entity whose property and interests in property are blocked pursuant to E.O. 13582.

3. AMAN HOLDING COMPANY (a.k.a. AMAN GROUP; a.k.a. AMAN HOLDING GROUP; a.k.a. AMAN HOLDING PRIVATE JSC), Al Shurafa Building Aman Group, Al Moutanabi Street, Lattika, Syria [SYRIA] (Linked To: FOZ, Samer).

Designated pursuant to section 1(b)(iv) of E.O. 13573 for being owned or controlled by, directly or indirectly, Samer FOZ, a person whose property and interests in property are blocked pursuant to E.O. 13573.

Also designated pursuant to section 1(b)(ii) of E.O. 13582 for being owned or controlled by, directly or indirectly, Samer FOZ, a person whose property and interests in property are blocked pursuant to E.O. 13582.

4. ASM INTERNATIONAL TRADING, LLC (a.k.a. ASM INTERNATIONAL GENERAL TRADING COMPANY; a.k.a. ASM INTERNATIONAL GENERAL TRADING LLC), Jumeirah Lake Tower, Cluster 1, Platinum Tower, Office 2405, P.O. Box 36102, Dubai, United Arab Emirates [SYRIA] (Linked To: FOZ, Samer).

Designated pursuant to section 1(b)(iv) of E.O. 13573 for being owned or controlled by, directly or indirectly, Samer FOZ, a person whose property and interests in property are blocked pursuant to E.O. 13573.

Also, designated pursuant to section 1(b)(ii) of E.O. 13582 for being owned or controlled by, directly or indirectly, Samer FOZ, a person whose property and interests in property are blocked pursuant to E.O. 13582.

5. BS COMPANY OFFSHORE (a.k.a. B S COMPANY; a.k.a. B.S. COMPANY OFFSHORE; a.k.a. BS COMPANY SAL OFFSHORE), Salame Building, Beit Mery, Lebanon [SYRIA].

Designated pursuant to section 1(b)(i) of E.O. 13582 for having materially assisted, sponsored, or provided financial, material, or technological support for, or goods or services in support of, BANIAS REFINERY COMPANY, an entity identified as meeting the definition of the GOVERNMENT OF SYRIA as set forth in section 8(d) of E.O. 13582 and section 542.305 of the Syrian Sanctions Regulations, 31 CFR part 542.

6. FOUR SEASONS DAMASCUS (a.k.a. DAMASCUS FOUR SEASONS; a.k.a. FOUR SEASONS HOTEL DAMASCUS), Shukri Al Quatli Street, P.O. Box 6311, Damascus, Syria [SYRIA] (Linked To: FOZ, Samer).

Designated pursuant to section 1(b)(iv) of E.O. 13573 for being owned or controlled by, directly or indirectly, Samer FOZ, a person whose property and interests in property are blocked pursuant to E.O. 13573.

Also designated pursuant to section 1(b)(ii) of E.O. 13582 for being owned or controlled by, directly or indirectly, Samer FOZ, a person whose property and interests in property are blocked pursuant to E.O. 13582.

7. FOZ FOR TRADING (a.k.a. FOZ TRADING), Syria [SYRIA] (Linked To: AMAN HOLDING COMPANY).

Designated pursuant to section 1(b)(iv) of E.O. 13573 for being owned or controlled by, directly or indirectly, AMAN HOLDING COMPANY, an entity whose property and interests in property are blocked pursuant to E.O. 13573.

Also designated pursuant to section 1(b)(ii) of E.O. 13582 for being owned or controlled by, directly or indirectly, AMAN HOLDING COMPANY, an entity whose property and interests in property are blocked pursuant to E.O. 13582.

8. LANA TV, Beirut, Lebanon [SYRIA] (Linked To: FOZ, Samer).

Designated pursuant to section 1(b)(iv) of E.O. 13573 for being owned or controlled by, directly or indirectly, Samer FOZ, a person whose property and interests in property are blocked pursuant to E.O. 13573.

Also designated pursuant to section 1(b)(ii) of E.O. 13582 for being owned or controlled by, directly or indirectly, Samer FOZ, a person whose property and interests in property are blocked pursuant to E.O. 13582.

9. MAINPHARMA (a.k.a. MEENPHARMA), Syria [SYRIA] (Linked To: AMAN HOLDING COMPANY).

Designated pursuant to section 1(b)(iv) of E.O. 13573 for being owned or controlled by, directly or indirectly, AMAN HOLDING COMPANY, an entity whose property and interests in property are blocked pursuant to E.O. 13573.

Also designated pursuant to section 1(b)(ii) of E.O. 13582 for being owned or controlled by, directly or indirectly, AMAN HOLDING COMPANY, an entity whose property and interests in property are blocked pursuant to E.O. 13582.

10. MENA CRYSTAL SUGAR COMPANY LIMITED (a.k.a. M.E.N.A. CRYSTAL SUGAR COMPANY; a.k.a. M.E.N.A. SUGAR COMPANY; a.k.a. MENA SUGAR COMPANY), Homs, Syria [SYRIA] (Linked To: AMAN HOLDING COMPANY).

Designated pursuant to section 1(b)(iv) of E.O. 13573 for being owned or controlled by, directly or indirectly, AMAN HOLDING COMPANY an entity whose property and interests in property are blocked pursuant to E.O. 13573.

Also designated pursuant to section 1(b)(ii) of E.O. 13582 for being owned or controlled by, directly or indirectly, AMAN HOLDING COMPANY, an entity whose property and interests in property are blocked pursuant to E.O. 13582.

11. ORIENT CLUB, Al Najmeh Square—Abou Romaaneh 6737, Damascus, Syria [SYRIA] (Linked To: FOZ, Samer).

Designated pursuant to section 1(b)(iv) of E.O. 13573 for being owned or controlled by, directly or indirectly, Samer FOZ, a person whose property and interests in property are blocked pursuant to E.O. 13573.

Also designated pursuant to section 1(b)(ii) of E.O. 13582 for being owned or controlled by, directly or indirectly, Samer FOZ, a person whose property and interests in property are blocked pursuant to E.O. 13582.

12. SILVER PINE (a.k.a. SILVER PINE DMCC), Jumeirah Lake Tower, Cluster 1, Platinum Tower, Office 2405, P.O. Box 36102, Dubai, United Arab Emirates [SYRIA] (Linked To: FOZ, Husen).

Designated pursuant to section 1(b)(iv) of E.O. 13573 for being owned or controlled by, directly or indirectly, Husen FOZ, a person whose property and interests in property are blocked pursuant to E.O. 13573.

Also designated pursuant to section 1(b)(ii) of E.O. 13582 for being owned or controlled by, directly or indirectly, Husen FOZ, a person whose property and interests in property are blocked pursuant to E.O. 13582.

13. SYNERGY SAL OFFSHORE, Azarieh street—Azarieh building, Beirut, Lebanon [SYRIA].

Designated pursuant to section 1(b)(i) of E.O. 13582 for having materially assisted, sponsored, or provided financial, material, or technological support for, or goods or services in support of, BANIAS REFINERY COMPANY, an entity identified as meeting the definition of the GOVERNMENT OF SYRIA as set forth in section 8(d) of E.O. 13582 and section 542.305 of the Syrian Sanctions Regulations, 31 CFR part 542.

Dated: June 14, 2019.
Andrea M. Gacki,
Director, Office of Foreign Assets Control.

[FR Doc. 2019-13211 Filed 6-20-19; 8:45 am]

BILLING CODE 4810-AL-P